FEDERAL COMMUNICATIONS COMMISSION

47 CFR Part 51

[WC Docket No. 18-155; FCC 19-94; FRS 16745]

Updating the Intercarrier Compensation Regime To Eliminate Access Arbitrage

AGENCY: Federal Communications Commission.

ACTION: Final rule; announcement of compliance date.

SUMMARY: In this document, the Commission announces that the Office of Management and Budget (OMB) has approved, for a period of three years, the information collection associated with rules for notifications related to access stimulation adopted in the Commission's Report and Order and Modification to Section 214 Authorizations, FCC 19-94, and that compliance with the modified rules is now required. This document is consistent with the Report and Order and Modification to Section 214 Authorizations, FCC 19-94, which states the Commission will publish a document in the Federal Register announcing a compliance date for the modified rule section and revise the rule accordingly.

DATES:

Effective date: This rule is effective June 9, 2020.

Compliance date: Compliance with § 51.914(b) and (e) published 84 FR 57629 on October 28, 2019, is required as of June 9, 2020.

FOR FURTHER INFORMATION CONTACT: Susan Bahr of the Wireline Competition Bureau, Pricing Policy Division, at (202) 418-0573, or email: at Susan.Bahr@fcc.gov.

SUPPLEMENTARY INFORMATION: This document announces that on March 31, 2020 OMB approved, for a period of three years, the information collection requirements contained in the Report and Order and Modification to Section 214 Authorizations, FCC 19-94, published at 84 FR 57629 on October 28, 2019. The OMB Control Number is 3060-0298. The Commission publishes this document as an announcement of the compliance date of the rule. This document also removes § 51.914(f) of the Commission's rules, which advised that compliance was not required until OMB approval was obtained.

If you have any comments on the burden estimates listed below, or how the Commission can improve the collections and reduce any burdens caused thereby, please contact Nicole Ongele, Federal Communications Commission, Room 1-A620, 445 12th Street SW, Washington, DC 20554, regarding OMB Control Number 3060-0298. Please include the applicable OMB Control Number in your correspondence. The Commission will also accept your comments via email at PRA@fcc.gov.

To request materials in accessible formats for people with disabilities (Braille, large print, electronic files, audio format), send an email to fcc504@fcc.gov or call the Consumer and Governmental Affairs Bureau at (202) 418-0530 (voice), or (202) 418-0432 (TTY).

Synopsis

As required by the Paperwork Reduction Act of 1995 (44 U.S.C. 3507), the FCC is notifying the public that it received final OMB approval on March 31, 2020, for the information collection requirements contained in 47 CFR 51.914(b), (e). Under 5 CFR part 1320, an agency may not conduct or sponsor a collection of information unless it displays a current, valid OMB Control Number.

No person shall be subject to any penalty for failing to comply with a collection of information subject to the Paperwork Reduction Act that does not display a current, valid OMB Control Number. The OMB Control Number is 3060-0298.

The foregoing notice is required by the Paperwork Reduction Act of 1995, Public Law 104-13, October 1, 1995, and 44 U.S.C. 3507.

The total annual reporting burdens and costs for the respondents are as follows:

OMB Control Number: 3060-0298.

OMB Approval Date: March 31, 2020.

OMB Expiration Date: March 31, 2023.

Title: Part 61, Tariffs (other than the Tariff Review Plan).

Form Number: N/A.

Respondents: Business or other for-profit entities.

Number of Respondents and Responses: 2,840 respondents; 5,605 responses.

Estimated Time per Response: 1-50 hours.

Frequency of Response: On occasion, annual, biennial, and one-time reporting requirements.

Obligation to Respond: Required to obtain or retain benefits. Statutory authority for this information collection is contained in 47 U.S.C. Sections 151-155, 201-205, 208, 251-271, 403, 502 and 503 of the Communications Act of 1934, as amended.

Total Annual Burden: 196,677 hours.

Total Annual Cost: $1,444,800.

Privacy Act Impact Assessment: No impact(s).

Nature and Extent of Confidentiality: There is no need for confidentiality with this collection of information.

Needs and Uses: In this collection, the Commission added § 51.914 in the Report and Order and Modification to Section 214 Authorizations which was adopted on September 26, 2019 and released on September 27, 2019. The Commission made access-stimulating local exchange carriers (LECs) financially responsible for the terminating tandem switching and transport service access charges associated with the delivery of traffic from an interexchange carrier (IXC) to the access-stimulating LEC end office or its functional equivalent. Access-stimulating LECs must provide notice of their assumption of financial responsibility to the Commission by filing a record of their access-stimulating status and acceptance of financial responsibility in the Commission's WC Docket No. 18-155, and must provide notice to any affected IXCs and intermediate access providers of the same, within 45 days of the effective date of the Order or within 45 days of commencing Access Stimulation, whichever is later, subject to the FCC obtaining approval of § 51.914(b) by the Office of Management and Budget (OMB). If, after approval of this requirement by OMB, access-stimulating LECs no longer engage in access stimulation, they must also file notice of that change in status with the Commission and with any affected IXCs and intermediate access providers, pursuant to § 51.914(e).

The information collected through carriers' tariffs is used by the Commission and state commissions to determine whether services offered are just and reasonable, as the Act requires. The tariffs and any supporting documentation are examined in order to determine if the services are offered in a just and reasonable manner.

List of Subjects in 47 CFR Part 51

Communications common carriers, Telecommunications.

Federal Communications Commission.
Marlene Dortch,
Secretary, Office of the Secretary.

Final Rules

For the reason discussed in the preamble, the Federal Communications Commission amends 47 CFR part 51 as follows:

PART 51—INTERCONNECTION

1. The authority citation for part 51 continues to read as follows:

Authority: 47 U.S.C. 151-55, 201-05, 207-09, 218, 225-27, 251-52, 271, 332 unless otherwise noted.

§ 51.914 [Amended]

2. Amend § 51.914 by removing paragraph (f).

[FR Doc. 2020-10346 Filed 6-8-20; 8:45 am]

BILLING CODE 6712-01-P